DEPARTMENT OF COMMERCE

National Oceanic and Atmospheric Administration

50 CFR Part 600

[Docket No. 070717348-7766-02]

RIN 0648-AV60

Magnuson-Stevens Act Provisions; Annual Catch Limits; National Standard Guidelines

AGENCY: National Marine Fisheries Service (NMFS); National Oceanic and Atmospheric Administration (NOAA); Commerce.

ACTION: Proposed rule, extension of comment period.

SUMMARY: NMFS extends the public comment period on the proposed rule to revise National Standard 1 (NS1) guidelines, including guidance on how to comply with new annual catch limit (ACL) and accountability measures (AM) requirements for ending overfishing of fisheries managed by federal fishery management plans. NMFS has received various requests to extend the comment period for the proposed rule beyond its current 90-day comment period. The extension of the comment period for another two weeks is intended to ensure that NMFS provides adequate time for various stakeholders and members of the public to comment on the proposed guidance on ACLs and AMs and other proposed revisions to the NS1 guidelines. The comment period ending date is extended from September 8, 2008, to September 22, 2008.

DATES: Comments must be received on or before September 22, 2008.

ADDRESSES: You may submit comments, identified by 0648-AV60, by any of the following methods:

• Electronic submissions: Submit all electronic public comments via the Federal e-Rulemaking portal: http://www.regulations.gov;

• Fax: 301-713-1193, Attn: Mark Millikin;

• Mail: Mark R. Millikin, National Marine Fisheries Service, NOAA, Office of Sustainable Fisheries, 1315 East-West Highway, Room 13357, Silver Spring, MD 20910 (mark outside of envelope “Comments on Annual Catch Limits proposed rule”);

Instructions: All comments received are a part of the public record and will be generally posted to http://www.regulations.gov without change. All Personal Identifying Information (for example, name, address, etc.) voluntarily submitted by the commenter may be publicly accessible. Do not submit confidential business information or otherwise sensitive or protected information.

NMFS will accept anonymous comments (enter N/A in the required fields, if you wish to remain anonymous). Attachments to electronic comments will be accepted in Microsoft Word, Excel, Wordperfect, or Adobe PDF file formats only.

Copies of the Regulatory Impact review (RIR)/Regulatory Flexibility Act analysis (RFAA) for this proposed rule are available from Mark R. Millikin at the address listed above. The RIR/RFAA document is also available via the internet at http://www.nmfs.noaa.gov/msa2007/catchlimits.htm.

FOR FURTHER INFORMATION CONTACT: Mark R. Millikin, Senior Fishery Management Specialist, 301-713-2341.

SUPPLEMENTARY INFORMATION: A proposed rule that covers NMFS' proposed revisions to the NS1 guidelines, including guidance on ACLs and AMs was published in the Federal Register on June 9, 2008 (73 FR 32526), with a comment period ending date of September 8, 2008. After receiving several requests to extend the comment period, NMFS has decided to extend it for another two weeks through September 22, 2008.

This action extends the comment period for a proposed rule that the Office of Management and Budget determined to be significant under Executive Order 12866.

Authority: 16 U.S.C 1801 et seq.

Dated: August 8, 2008.
John Oliver,
Deputy Assistant Administrator for Operations, National Marine Fisheries Service.

[FR Doc. E8-18756 Filed 8-12-08; 8:45 am]

BILLING CODE 3510-22-S